SMALL BUSINESS ADMINISTRATION

[Disaster Declaration #21435; CALIFORNIA Disaster Number CA-20041 Declaration of Economic Injury]

Administrative Declaration of an Economic Injury Disaster for the State of California

AGENCY: U.S. Small Business Administration.

ACTION: Notice.

SUMMARY: This is notice of an Economic Injury Disaster Loan (EIDL) declaration for the state of California dated February 6, 2026.

Incident: 2025 Late December Storms.

DATES: Issued on February 6, 2026.

Incident Period: December 16, 2025 through December 26, 2025.

Economic Injury (EIDL) Loan Application Deadline Date: November 6, 2026.

ADDRESSES: Visit the MySBA Loan Portal at https://lending.sba.gov to apply for a disaster assistance loan.

FOR FURTHER INFORMATION CONTACT: Sharon Henderson, Office of Disaster Recovery and Resilience, U.S. Small Business Administration, 409 3rd Street SW, Suite 6050, Washington, DC 20416, (202) 205-6734.

SUPPLEMENTARY INFORMATION: Notice is hereby given as a result of the Administrator's EIDL declaration, applications for disaster loans may be submitted online using the MySBA Loan Portal https://lending.sba.gov or in person at other locally announced locations. For further assistance please contact the SBA disaster assistance customer service center by email at disastercustomerservice@sba.gov or by phone at 1-800-659-2955. If you are deaf, hard of hearing, or have a speech disability, please dial 7-1-1to access telecommunications relay services.

The following areas have been determined to be adversely affected by the disaster:

Primary Counties: Mono, Santa Barbara.

Contiguous Counties:

California: Alpine, Fresno, Inyo, Kern, Madera, San Luis Obispo, Tuolumne, Ventura.

Nevada: Douglas, Esmeralda, Lyon, Mineral.

The Interest Rates are:

| Percent
Business and Small Agricultural Cooperatives without Credit Available Elsewhere | 4.000
Private Non-Profit Organizations without Credit Available Elsewhere | 3.625

The number assigned to this disaster for economic injury is 214350.

The states which received an EIDL declaration are California, Nevada.

(Catalog of Federal Domestic Assistance Number 59008)

(Authority: 13 CFR 123.3(b).)

James Stallings,
Associate Administrator, Office of Disaster Recovery & Resilience.

[FR Doc. 2026-02717 Filed 2-10-26; 8:45 am]

BILLING CODE 8026-09-P